DEPARTMENT OF AGRICULTURE

Forest Service

Bear Hodges Vegetation Project; Wasatch-Cache National Forest, Cache and Rich Counties, UT

AGENCY: Forest Service, USDA.

ACTION: Notice of intent to prepare environmental impact statement.

SUMMARY: The Forest Supervisor of the Wasatch-Cache National Forest gives notice of the agency's intent to prepare an environmental impact statement on a proposal to harvest mature dense, large diameter spruce stands through individual tree removal, small group selection, and shelterwood with reserves. Much of this proposal takes place in Utah State University's T.W. Daniel Experimental Forest. This is northern Utah's Wasatch Mountains about 10 miles south of the Utah-Idaho borders and about 7 miles west of Bear Lake. The project area is in the upper reaches of the Little Bear and West Hodges drainages. The proposal addresses lands located primarily in the drainages located in Township 13 North, Range 4 East, Salt Lake Meridian, in Sections 15, 21, and 22 of the T.W. Daniels Forest and in two other sections of the national forest (27 and 28) immediately to the south of the land under permit to the Daniels Forest.

The proposed action was developed to move the vegetation toward desired future condition by regenerating young spruce. The proposal is to treat approximately 700-800 acres. Access to the area will require some new specified and temporary road construction.

DATES: Comments concerning the scope of the analysis must be received in writing by July 21, 2003. A draft environmental impact statement is expected to be published in September 2003, with public comment on the draft material requested for a period of 45 days, and completion of a final environmental impact statement is expected in February, 2003.

ADDRESSES: Send written comments to Wasatch-Cache National Forest, Federal building, 125 S. State St., Salt Lake City, Utah 84138, Attn: Bear Hodges II.

FOR FURTHER INFORMATION CONTACT: Tom Scott, Environmental Coordinator, (801) 625-5404.

SUPPLEMENTARY INFORMATION:

Purpose and Need for Action

The spruce-fir in the analysis area are dense, large diameter, mature to old age and lacking in regeneration and young trees. With this structural pattern in place the spruce-fir stands become increasingly susceptible to epidemic levels of insects and disease. There is a need to restore the health of these ecosystems and move them towards the desired conditions of biodiversity and viability expressed in the revised Forest Plan (2003). The purpose of the project is to restore these systems to regimes more closely resembling natural patterns of disturbance. A secondary purpose to this project is to work collaboratively with Utah State University and their experimental forest to conduct research on silvicultural treatments.

Proposed Action

The proposal is to thin nearly 600 acres of the forest to reduce the susceptibility to spruce bark beetle mortality. Thinning could increase the risk of trees being blown down in extremely dense clumps of forest. In these situations adjustments to the thinning method would be made to compensate and decrease blow down risks.

About 100 small openings will be created across the project area to establish spruce regeneration. Openings will not exceed ¼ acre in size, and will be planted with containerized spruce after harvest. A majority of these openings will be within the thinning units, and the remainder will be in the research units. Existing small openings will be used whenever possible.

Clumps of wildlife trees will be retained in all units except the research units. Clumps will consist of 4-6 trees of all species and size classes and will be distributed throughout the area.

On about 150 acres several small cutting units will test different spruce silvicultural strategies, including single-tree selection, small group selection, and shelterwood with reserves. There would be the same number of test harvest units for each of the three strategies.

Access to the units will require approximately 2 miles of new specified road construction, which will be stabilized, gated and managed as closed to public use traffic following the sale. In addition to specified road construction, an additional 1.5 miles of temporary road will be needed, which will be restored to original contour, seeded and covered with slash or rocks when the project is completed.

Responsible Official

The Responsible Official is Thomas L. Tidwell, Forest Supervisor, Wasatch-Cache National Forest, 8236 Federal Building, 125 South State Street, Salt Lake City, UT 84138.

Nature of Decision To Be Made

The decision to be made is whether to implement the proposed activities listed above.

Scoping Process

The Forest Service invites comments and suggestions on the scope of the analysis to be included in the Draft Environmental Impact Statement (DEIS). In addition, the Forest Service gives notice that it is beginning a full environmental analysis and decision-making process for this proposal so that interested or affected people may know how they can participate in the environmental analysis and contribute to the final decision. This notice of intent initiates the scoping process which guides the development of the environmental impact statement. The Forest Service welcomes any public comments on the proposal.

Early Notice of Importance of Public Participation in Subsequent Environmental Review

A draft environmental impact statement will be prepared for comment. The comment period on the draft environmental impact statement will be 45 days from the date the Environmental Protection Agency's notice of availability appears in the Federal Register. It is very important that those interested in this proposed action participate at that time. To be the most helpful, comments on the draft environmental impact statement should be as specific as possible and may address the adequacy of the statement or the merits of the alternatives discussed.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objection are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40 CFR 1503.3 in addressing these points.) Comments received, including the names and addresses of those who comment, will be considered part of the public record on this proposal and will be available for public inspection.

(Authority: 40 CFR 1501.7 and 1508.22; Forest Service Handbook 1909.15, Section 21)
Dated: June 16, 2003.
Faye L. Krueger,
Deputy Forest Supervisor.

[FR Doc. 03-16179 Filed 6-25-03; 8:45 am]

BILLING CODE 3410-11-M